DEPARTMENT OF ENERGY

Federal Energy Regulatory Commission

[Project No. 2079-069]

Placer County Water Agency

Notice of Application Tendered for Filing with the Commission and Establishing Procedural Schedule for Licensing And Deadline for Submission of Final Amendments

Take notice that the following hydroelectric application has been filed with the Commission and is available for public inspection.

a. Type of Application: New Major License

b. Project No.: 2079-069

c. Date Filed: February 23, 2011

d. Applicant: Placer County Water Agency

e. Name of Project: Middle Fork American River Project

f. Location: The Middle Fork American River Project is located in Placer and El Dorado counties, almost entirely within the Tahoe and El Dorado National Forests. The project occupies 3,268 acres of federal lands administered by the U.S. Department of Agriculture—Forest Service.

g. Filed Pursuant to: Federal Power Act, 16 U.S.C. 791 (a)-825(r)

h. Applicant Contact: Andy Fecko, Project Manager, Placer County Water Agency, 144 Ferguson Road, Auburn, CA 95603; Telephone: (530) 823-4490.

i. FERC Contact: Carolyn Templeton, (202) 502-8785 or carolyn.templeton@ferc.gov

j. This application is not ready for environmental analysis at this time.

k. The Project Description: The Middle Fork American River Project (project) has two principal water storage reservoirs, French Meadows and Hell Hole. These reservoirs are located on the Middle Fork American River and the Rubicon River, respectively, and have a combined gross storage capacity of 342,583 acre-feet (ac-ft).

Starting at the highest elevation of the project, water is diverted from Duncan Creek at the Duncan Creek diversion and routed through the 1.5-mile-long Duncan Creek-Middle Fork tunnel into French Meadows reservoir (134,993 ac-ft of gross storage).

Flows in the Middle Fork American River are captured and stored in French Meadows reservoir along with diversions from Duncan Creek. From French Meadows reservoir, water is transported via the 2.6-mile-long French Meadows-Hell Hole tunnel, passed through the French Meadows powerhouse [installed generating capacity of 15.3 megawatts (MW)], and released into Hell Hole reservoir (207,590 ac-ft of gross storage). Flows in the Rubicon River are captured and stored in Hell Hole reservoir along with water released from French Meadows reservoir through French Meadows powerhouse. Water released from Hell Hole reservoir into the Rubicon River to meet instream flow requirements first pass through the Hell Hole powerhouse (installed generating capacity of 0.73 MW), which is located at the base of Hell Hole dam.

From Hell Hole reservoir, water is also transported via the 10.4-mile-long Hell Hole-Middle Fork tunnel, passed through the Middle Fork powerhouse (installed generating capacity of 122.4 MW), and released into the Middle Fork Interbay (175 ac-ft of gross storage). Between Hell Hole reservoir and Middle Fork powerhouse, water is diverted from the North and South Forks of Long Canyon creeks directly into the Hell Hole-Middle Fork tunnel. Water diverted from these creeks into the Hell Hole-Middle Fork tunnel can either be stored in Hell Hole reservoir or be used to augment releases from Hell Hole reservoir to the Middle Fork powerhouse.

Flows from the Middle Fork American River (including instream flow releases from French Meadows reservoir) are captured at Middle Fork interbay along with water released from Hell Hole reservoir through Middle Fork powerhouse. From Middle Fork Interbay, water is transported via the 6.7-mile-long Middle Fork-Ralston tunnel, passed through the Ralston Powerhouse (installed generating capacity of 79.2 MW), and released into the Ralston afterbay (2,782 ac-ft of gross storage).

Flows from the Middle Fork American River (including instream releases from Middle Fork interbay) and flows from the Rubicon River (including instream releases from Hell Hole reservoir) are captured in Ralston afterbay along with water transported from Middle Fork interbay through Ralston powerhouse. From Ralston afterbay, water is transported via the 400-foot-long Ralston-Oxbow tunnel, passed through the Oxbow powerhouse (installed generating capacity of 6.1 MW), and released from the project to the Middle Fork American River. The project has a total generation capacity of 224 MW.

l. Locations of the Application: A copy of the application is available for review at the Commission in the Public Reference Room or may be viewed on the Commission's website at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | April 25, 2011.
Filing of recommendations, preliminary terms and conditions, and fishway prescriptions | June 24, 2011.
Commission issues Draft EA or EIS | December 21, 2011.
Comments on Draft EA or EIS | February 20, 2012.
Modified Terms and Conditions | April 20, 2012.
Commission Issues Final EA or EIS | July 19, 2012.

o. Final amendments to the application must be filed with the Commission no later than 30 days from the issuance date of the notice of ready for environmental analysis.

Dated: March 4, 2011.
Kimberly D. Bose,
Secretary.

[FR Doc. 2011-5488 Filed 3-9-11; 8:45 am]

BILLING CODE 6717-01-P